DEPARTMENT OF ENERGY

Federal Energy Regulatory Commission

Combined Notice of Filings #1

November 8, 2010.

Take notice that the Commission received the following electric corporate filings:

Docket Numbers: EC10-105-000.

Applicants: Exelon Corporation, Exelon Generation Company, LLC, EXELON VENTURES CO, LLC, Exelon Ventures Company, LLC, DEERE & CO, John Deere Renewables, LLC, Cassia Gulch Wind Park, Cow Branch Wind Power, LLC, CR Clearing, LLC, Harvest WindFarm, LLC, JD WIND 4, LLC, Michigan Wind 1, LLC, Tuana Springs Energy, LLC, Wind Capital Holdings, LLC.

Description: Supplement to Joint Application for Section 203 Approval and Request for Shortened Notice Period.

Filed Date: 11/08/2010.

Accession Number: 20101108-5078.

Comment Date: 5 p.m. Eastern Time on Thursday, November 18, 2010.

Docket Numbers: EC11-17-000.

Applicants: Morgan Stanley Capitol Group Inc., TAQA Gen X LLC, MS TGX, LLC.

Description: Joint Application for Authorization under Section 203 of the Federal Power Act, Request for Expedited Action, and Request for Confidential Treatment of TAQA Gen X LLC, Morgan Stanley Capital Group Inc. and MS TGX, LLC.

Filed Date: 11/04/2010.

Accession Number: 20101104-5144.

Comment Date: 5 p.m. Eastern Time on Friday, November 26, 2010.

Take notice that the Commission received the following electric rate filings:

Docket Numbers: ER98-4109-006, ER03-394-008, ER09-1453-003, ER03-427-008, ER04-170-010, ER99-3426-012, ER07-265-013, ER08-100-012, ER05-440-004, ER03-175-010.

Applicants: El Dorado Energy, LLC, Elk Hills Power, LLC, Gateway Energy Services, Corp., Mesquite Power, LLC, MXenergy Electric Inc., San Diego Gas & Electric Company, Sempra Energy Solutions LLC, Sempra Energy Trading LLC, Sempra Generation, Termoelectrica.

Description: Errata to Supplement to Triennial Update of Sempra Market-Based Rate Sellers.

Filed Date: 11/05/2010.

Accession Number: 20101105-5213.

Comment Date: 5 p.m. Eastern Time on Friday, November 26, 2010.

Docket Numbers: ER04-925-023.

Applicants: Merrill Lynch Commodities, Inc.

Description: Notification of Nonmaterial Change in Status Notice.

Filed Date: 11/05/2010.

Accession Number: 20101105-5208.

Comment Date: 5 p.m. Eastern Time on Friday, November 26, 2010.

Docket Numbers: ER11-2032-000.

Applicants: New Harvest Wind Project, LLC.

Description: New Harvest Wind Project, LLC submits tariff filing per 35.12: Initial Market-Based Rate Application to be effective 1/3/2011.

Filed Date: 11/04/2010.

Accession Number: 20101104-5112.

Comment Date: 5 p.m. Eastern Time on Friday, November 26, 2010.

Docket Numbers: ER11-2033-000.

Applicants: BNP Paribas Energy Trading GP.

Description: BNP Paribas Energy Trading GP submits tariff filing per 35.13(a)(2)(iii): BNP Paribas Tariff Amendment to be effective 1/3/2011.

Filed Date: 11/04/2010.

Accession Number: 20101104-5119.

Comment Date: 5 p.m. Eastern Time on Friday, November 26, 2010.

Docket Numbers: ER11-2034-000.

Applicants: Columbus Southern Power Company.

Description: Columbus Southern Power Company submits tariff filing per 35.13(a)(2)(iii): CSP Rate Schedule 39 to be effective 1/1/2011.

Filed Date: 11/05/2010.

Accession Number: 20101105-5041.

Comment Date: 5 p.m. Eastern Time on Friday, November 26, 2010.

Docket Numbers: ER11-2035-000.

Applicants: American PowerNet Management, LP.

Description: American PowerNet Management, LP submits tariff filing per 35.12: American PowerNet Management, LP Rate Schedule FERC No. 1 to be effective 11/5/2011.

Filed Date: 11/05/2010.

Accession Number: 20101105-5042.

Comment Date: 5 p.m. Eastern Time on Friday, November 26, 2010.

Docket Numbers: ER11-2036-000.

Applicants: AES Laurel Mountain, LLC.

Description: AES Laurel Mountain, LLC submits tariff filing per 35.12: AES Laurel Mountain MBR Application to be effective 1/4/2011.

Filed Date: 11/05/2010.

Accession Number: 20101105-5050.

Comment Date: 5 p.m. Eastern Time on Friday, November 26, 2010.

Docket Numbers: ER11-2037-000.

Applicants: Elk City II Wind, LLC.

Description: Elk City II Wind, LLC submits tariff filing per 35.12: Elk City II Wind, LLC MBR Application to be effective 12/15/2010.

Filed Date: 11/05/2010.

Accession Number: 20101105-5093.

Comment Date: 5 p.m. Eastern Time on Friday, November 26, 2010.

Docket Numbers: ER11-2038-000.

Applicants: ISO New England Inc., New England Power Pool Participants Committee.

Description: ISO New England Inc. submits tariff filing per 35.13(a)(2)(iii): Enhancements to the Forward Reserve Market to be effective 6/1/2011.

Filed Date: 11/05/2010.

Accession Number: 20101105-5139.

Comment Date: 5 p.m. Eastern Time on Friday, November 26, 2010.

Docket Numbers: ER11-2039-000.

Applicants: E-T Global Energy, LLC.

Description: E-T Global Energy, LLC submits tariff filing per 35.12: FERC Electric Tariff to be effective 11/5/2010.

Filed Date: 11/05/2010.

Accession Number: 20101105-5140.

Comment Date: 5 p.m. Eastern Time on Friday, November 26, 2010.

Docket Numbers: ER11-2040-000.

Applicants: Schuylkill Energy Resources, Inc.

Description: Schuylkill Energy Resources, Inc. submits tariff filing per 35.12: Application for MBR Authority to be effective 11/5/2010.

Filed Date: 11/05/2010.

Accession Number: 20101105-5149.

Comment Date: 5 p.m. Eastern Time on Friday, November 26, 2010.

Docket Numbers: ER11-2041-000.

Applicants: Innovative Energy Systems, LLC.

Description: Innovative Energy Systems, LLC submits tariff filing per 35.12: FERC Electric Tariff, Volume No. 1 to be effective 11/6/2010.

Filed Date: 11/05/2010.

Accession Number: 20101105-5190.

Comment Date: 5 p.m. Eastern Time on Friday, November 26, 2010.

Docket Numbers: ER11-2042-000.

Applicants: Seneca Energy, II LLC.

Description: Seneca Energy, II LLC submits tariff filing per 35.12: FERC Electric Tariff, Volume No. 1 to be effective 11/6/2010.

Filed Date: 11/05/2010.

Accession Number: 20101105-5191.

Comment Date: 5 p.m. Eastern Time on Friday, November 26, 2010.

Docket Numbers: ER11-2043-000.

Applicants: MidAmerican Energy Company.

Description: MidAmerican Energy Company submits tariff filing per 35.15: Cancel Tariff ID to be effective 9/30/2010.

Filed Date: 11/05/2010.

Accession Number: 20101105-5192.

Comment Date: 5 p.m. Eastern Time on Friday, November 26, 2010.

Docket Numbers: ER11-2044-000.

Applicants: MidAmerican Energy Company.

Description: MidAmerican Energy Company submits tariff filing per 35.12: Market-Based Rate Tariff & Capacity and Energy Sales Tariff—Baseline to be effective 9/30/2010.

Filed Date: 11/05/2010.

Accession Number: 20101105-5193.

Comment Date: 5 p.m. Eastern Time on Friday, November 26, 2010.

Docket Numbers: ER11-2045-000.

Applicants: The Royal Bank of Scotland plc.

Description: The Royal Bank of Scotland plc Notice of Cancellation.

Filed Date: 11/05/2010.

Accession Number: 20101105-5211.

Comment Date: 5 p.m. Eastern Time on Friday, November 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-28923 Filed 11-16-10; 8:45 am]

BILLING CODE 6717-01-P